DEPARTMENT OF HOMELAND SECURITY

Federal Emergency Management Agency

Agency Information Collection Activities: Proposed Collection; Comment Request

AGENCY: Federal Emergency Management Agency, Emergency Preparedness and Response Directorate, U.S. Department of Homeland Security

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c) (2) (A)), this notice seeks comments concerning the Elevation Certificate and the Floodproofing Certificate. The Elevation Certificate is required by the NFIP to certify the elevations of the buildings to determine the proper flood insurance rate. It can also be used by communities to document to what height new buildings and substantial improvements in Special Flood Hazard Areas were elevated so that communities can verify building compliance including the lowest floor determination.

SUPPLEMENTARY INFORMATION: The National Flood Insurance Program (NFIP) regulations require the elevation or floodproofing of new or substantially improved structures in designated Special Flood Hazard Areas. As part of the agreement for making flood insurance available in a community, the NFIP requires the community to adopt a floodplain management ordinance containing minimum NFIP requirements intended to reduce future flood losses. One such requirement is that the community require that buildings be elevated to or above the base flood elevation and, obtain the elevation of the lowest floor (including basement) of all new and substantially improved structures, and maintain a record of all such information. These data should be generated and retained as part of the community's permit records. The Elevation Certificate is one convenient way for a community to document building compliance; however, it is not a prescribed form. The Floodproofing Certificate may similarly be used to establish the floodproofed design elevation in those instances when floodproofing of non-residential structures is permitted.

The Elevation Certificate and Floodproofing Certificate are used in conjunction with the application in order to properly rate Post-FIRM structures in Special Flood Hazard Areas (44 CFR 61.7, 61.8) for flood insurance. Post-FIRM are those buildings constructed after publication of the Flood Insurance Rate Map (FIRM). In addition, the Elevation Certificate is needed for Pre-FIRM structures being rated under Post-FIRM flood insurance rules. The standardized format of the Elevation Certificate (FEMA Forms 81-31) and Floodproofing Certificate for Non-Residential Structures (FEMA Forms 81-65) provide community officials with needed data in order to verity building elevation information and determine compliance with the community's floodplain management ordinance.

Collection of Information

Title: Post Construction Elevation Certificate/Floodproofing Certificate.

Type of Information Collection: Revision of a currently approved collection.

OMB Number: 1660-0008.

Form Numbers: FEMA Form 81-31, Elevation Certificate, and FEMA Form 81-65, Flood Proofing Certificate.

Abstract: The Elevation Certificate and Floodproofing Certificate are used in conjunction with the application for flood insurance. The certificates are required for proper rating of post Flood Insurance Rate Map (FIRM) structures, which are buildings constructed after the publication of the FIRM, for flood insurance in Special Flood Hazard Areas. In addition, the Elevation Certificate is needed for pre-FIRM structures being rated under post-FIRM flood insurance rules. The certificates provide community officials and others standardized documents to readily record needed building elevation information.

The certificates are supplied to insurance agents, community officials, surveyors, engineers, architects, and NFIP policyholders/applicants. Surveyors, engineers, and architects complete the Elevation Certificate. Engineers and architects complete the Floodproofing Certificate. Community officials are provided the building elevation information required to document and determine compliance with the community's floodplain management ordinance. NFIP policyholders/applicants provide the appropriate certificate to insurance agents. The certificate is then used in conjunction with the flood insurance application so that the building can be properly rated for flood insurance.

Affected Public: Individuals or households, business or other for-profit, not-for-profit institutions, farms, and State, local or tribal governments.

Estimated Total Annual Burden Hours:

Annual Burden Hours
Project/Activity (Survey, Form(s), Focus Group, etc.) | No. of Respondents (A) | Frequency of Responses (B) | Burden Hours Per Respondent (C) | Annual Responses (A×B) | Total Annual Burden Hours (A×B×C)
Elevation Certificate, FEMA Form 81-31 and Instructions | 48,300 | One per structure | 3.50 hours | 48,300 | 169,050
Floodproofing Certificate, FEMA Form 81-65 | 130 | One per structure | 3.25 hours | 130 | 423
Web-based Training Module (Surveyors Video, Surveyors Guide for EC, and Bldg. Diagrams and Photo) | 48,300 | One per structure | 0.25 hour | 48,300 | 12,075
Total | 48,430 |  |  | 48,430 | 181,548

Estimated Cost: The cost to the respondent is estimated to be a fee of $200-$500 charged to the applicant by the private sector professional completing the Elevation or Floodproofing Certificate. The annual cost to 48,300 respondents × an average cost of $350 is estimated to be approximately $16,950,500 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to George S. Trotter, Acting Chief, Information Resources Management Branch, Information Technology Services Division, Federal Emergency Management Agency, 500 C Street, SW., Room 316, Washington, DC 20472.

FOR FURTHER INFORMATION CONTACT: Contact Jhun de la Cruz, Insurance Examiner, Mitigation Division, (202) 646-2650 for additional information. You may contact Ms. Anderson for copies of the proposed collection of information at telephone number (202) 646-2625 or facsimile number (202) 646-3347 or e-mail muriel.anderson@dhs.gov.

Dated: August 11, 2005.
George S. Trotter,
Acting Branch Chief, Information Resources Management Branch, Information Technology Services Division.

[FR Doc. 05-16382 Filed 8-17-05; 8:45 am]

BILLING CODE 9110-11-P